DEPARTMENT OF VETERANS AFFAIRS

[OMB Control No. 2900-0565]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 17, 2000.

FOR FURTHER INFORMATION OR A COPY OF THE SUBMISSION CONTACT: Denise McLamb, Information Management Service (045A4), Department of Veterans Affairs, 810 Vermont Avenue, NW, Washington, DC 20420, (202) 273-8135 or FAX (202) 273-5981. Please refer to “OMB Control No. 2900-0565.”

SUPPLEMENTARY INFORMATION: Title: State Application for Interment Allowance Under 38 U.S.C., Chapter 23, VA Form 21-530a.

OMB Control Number: 2900-0565.

Type of Review: Reinstatement, without change, of a previously approved collection for which approval has expired.

Abstract: VA Form 21-530a is used to gather information from a State seeking payment of benefits for plot-interment allowances for the burial of an eligible veteran in a cemetery owned by that State and used solely for the interment of persons eligible for burial in a national cemetery.

An agency may not conduct or sponsor, and a person is not required to respond to a collection of information unless it displays a currently valid OMB control number. The Federal Register Notice with a 60-day comment period soliciting comments on this collection of information was published on March 30, 2000 at pages 17006-17007.

Affected Public: State, Local or Tribal Government.

Estimated Annual Burden: 20,000 hours.

Estimated Average Burden Per Respondent: 30 minutes.

Frequency of Response: On occasion.

Estimated Number of Respondents: 40,000.

Send comments and recommendations concerning any aspect of the information collection to VA's OMB Desk Officer, Allison Eydt, OMB Human Resources and Housing Branch, New Executive Office Building, Room 10235, Washington, DC 20503 (202) 395-4650. Please refer to “OMB Control No. 2900-0565” in any correspondence.

Dated: May 26, 2000.
By direction of the Secretary:
Donald L. Neilson,
Director, Information Management Service.

[FR Doc. 00-15072 Filed 6-14-00; 8:45 am]

BILLING CODE 8320-01-P